DEPARTMENT OF COMMERCE

Minority Business Development Agency

[Docket No: 980901228-6099-07]

Solicitation of Applications for the Minority Business Opportunity Center (MBOC) Program (Louisiana)

AGENCY: Minority Business Development Agency, DOC.

ACTION: Notice.

SUMMARY: In accordance with Executive Order 11625 and 15 U.S.C. Section 1512, the Minority Business Development Agency (MBDA) is soliciting competitive applications from organizations to operate a Minority Business Opportunity Center (MBOC) (formerly Minority Business Opportunity Committee) in the state of Louisiana. A prior solicitation in the Federal Register dated February 8, 2006 (71 FR 6449) for the Baton Rouge/New Orleans geographic service area was unsuccessful. The Minority Business Opportunity Center through its staff will provide brokering services and assistance to minority business enterprises (MBEs) that (a) Generate $500,000 or more in annual gross revenues; (b) are capable of creating significant employment and long-term economic impact (commonly referred to as “rapid growth-potential” MBEs); or (c) have been displaced from Louisiana due to Hurricanes Katrina and Rita. The MBOC will provide access to buyers of goods and services and procurement and financing opportunities within the public and private sectors. In addition, the MBOC will assist clients by identifying, matching and fostering strategic partners and joint ventures with firms outside the designated service area in order to build client capacity.

DATES: The closing date for receipt of applications is May 11, 2006. Completed applications must be received by MBDA no later than 5 p.m. Eastern Daylight Time at the address below for paper submission or at http://www.Grants.gov for electronic submission. The due date and time is the same for electronic submissions as it is for paper submissions. The date the applications will be deemed to have been submitted electronically shall be the date and time received at Grants.gov. Applicants should save and print the proof of submission they receive from Grants.gov. Applications received after the closing date and time will not be considered. Anticipated time for processing is approximately forty-five (45) days from the date of publication of this notice. MBDA anticipates the award for the MBOC program will be made with a start date of June 1, 2006.

ADDRESSES:

1(a) Paper Submission—If Mailed: If the application is mailed/shipped overnight by the applicant or its representative, one (1) signed original plus two (2) copies of the application must be submitted. Completed application packages must be mailed to: Office of Business Development—MBOC Program, Office of Executive Secretariat, HCHB, Room 5063, Minority Business Development Agency, U.S. Department of Commerce, 14th Street and Constitution Avenue, NW., Washington, DC 20230.

U.S. Department of Commerce delivery policies for Federal Express, UPS, and DHL overnight services require the packages to be sent to the address above.

1(b) Paper Submission—If Hand-Delivered: If the application is hand-delivered by the applicant or his/her representative, one (1) signed original plus two (2) copies of the application must be delivered to: U.S. Department of Commerce, Minority Business Development Agency, Office of Business Development—MBOC Program (extension 1940), HCHB, Room 1874, Entrance #10, 15th Street, NW., Washington, DC. (Between Pennsylvania and Constitution Avenues).

U.S. Department of Commerce “hand-delivery” policies state that Federal Express, UPS, and DHL overnight services submitted to the address listed above (Entrance #10) cannot be accepted. These policies should be taken into consideration when utilizing their services. MBDA will not accept applications that are submitted by the deadline but rejected due to Departmental hand-delivery policies. The applicant must adhere to these policies in order for his/her application to receive consideration for award.

(2) Electronic Submission: Applicants are encouraged to submit their proposal electronically at http://www.Grants.gov. Electronic submissions should be made in accordance with the instructions available at Grants.gov (see http://www.grants.gov/ForApplicants for detailed information). MBDA strongly recommends that applicants not wait until the application deadline date to begin the application process through Grants.gov.

FOR FURTHER INFORMATION CONTACT: For further information, please visit MBDA's Minority Business Internet Portal at http://www.mbda.gov. Paper applications and Standard Forms may be obtained by contacting the MBDA National Enterprise Center (NEC) for the area where the Applicant is located (See Agency Contacts section) or visiting MBDA's Portal at http://www.mbda.gov. Standard Forms 424, 424A, 424B, and SF-LLL can also be obtained at http://www.whitehouse.gov/omb/grants, or http://www.Grants.gov. Forms CD-511, and CD-346 may be obtained at http://www.doc.gov/forms.

Responsibility for ensuring that applications are complete and received BY MBDA on time is the sole responsibility of the Applicant.

Agency Contacts:

1. Office of Business Development, 14th and Constitution Avenues, Room 5073, Washington DC 20230. Contact: Efrain Gonzalez, Program Manager at 202-482-1940.

2. Dallas National Enterprise Center (NEC) is located at 1100 Commerce Street, Suite 7B-23, Dallas, TX 75242. This region covers the states of Arkansas, Colorado, Louisiana, Montana, New Mexico, North Dakota, Oklahoma, South Dakota, Texas, Utah and Wyoming. Contact: John Iglehart, Regional Director, Dallas NEC at 214-767-8001.

SUPPLEMENTARY INFORMATION: Electronic Access: A link to the full text of the Federal Funding Opportunity (FFO) Announcement for the MBOC Program can be found at http://www.Grants.gov or by contacting the appropriate MBDA representative identified above. The FFO is also available at http://www.mbda.gov. The FFO contains a full and complete description of the MBOC program requirements. In order to receive proper consideration, applicants must comply with all information and requirements contained in the FFO. Applicants will be able to access, download and submit electronic grant applications for the MBOC Program in this announcement at Grants.gov. MBDA strongly recommends that applicants not wait until the application deadline date to begin the application process through Grants.gov.

Funding Availability: The total award period is two years. The Federal funding share in year 1 (June 1, 2006—May 31, 2007) is $415,000. MBDA anticipates the Federal funding share in year 2 (June 1, 2007—May 31, 2008) will be $260,000 (subject to the availability of FY 2007 appropriations). MBDA anticipates funding only one (1) MBOC from this competitive Announcement.

MBDA anticipates that 75 percent of the Federal funding share must be allocated to key staff, such as the Executive Director and Senior Business Development person(s). Applicants must submit project plans and budgets for each of the two funding periods. Projects will be funded for no more than one year at a time. Project proposals accepted for funding will not compete for funding in the subsequent second budget period. Second year funding will depend upon satisfactory performance, availability of funds to support continuation of the project, and consistency with Department of Commerce and MBDA priorities. Second year funding will be granted at the sole discretion of MBDA and the Department of Commerce.

MBDA is soliciting competitive applications from organizations to operate one MBOC in the state of Louisiana. The maximum Federal Funding Amounts for each year are shown below.

Applicant location | Federal amount year 1 (June 1, 2006—May 31, 2007) | Federal amount year 2 (June 1, 2007—May 31, 2008)
1. Louisiana | $415,000 | $260,000

MBOC applicants should have an established presence in the state of Louisiana. Established presence is defined to mean that the applicant has had an office in the location for approximately three (3) years preceding the date of this Announcement and has established working relationships with buying organizations. In light of Hurricanes Katrina and Rita, the definition for established presence is amended to include entities in operation since the beginning of 2003 (minimum) through August 2005. Applicants are encouraged to propose as large a service area as possible, which may extend beyond the state of Louisiana. Applicants will be required to operate a primary MBOC office in the city of New Orleans. Applicants are also encouraged to propose a secondary or satellite office accessible to residents of Baton Rouge, LA. Additional preference may be given to applicants proposing a secondary or satellite office(s).

Authority: Executive Order 11625 and 15 U.S.C. 1512.

Catalog of Federal Domestic Assistance (CFDA): 11.803 Minority Business Opportunity Center Program.

Eligibility: For-profit entities (including sole-proprietorships, partnership, and corporations), and non-profit organizations, state and local government entities, American Indian Tribes, and educational institutions are eligible to operate MBOCs.

Program Description

In accordance with Executive Order 11625 and 15 U.S.C. Section 1512, the Minority Business Development Agency (MBDA) is soliciting applications from organizations to operate a Minority Business Opportunity Center (MBOC) (formerly Minority Business Opportunity Committee). The Minority Business Opportunity Center through its staff provide will provide brokering services and assistance to MBEs that (a) Generate $500,000 or more in annual gross revenues; (b) are capable of creating significant employment and long-term economic impact (commonly referred to as “rapid growth-potential” MBEs); or (c) have been displaced from Louisiana due to Hurricanes Katrina or Rita . The MBOC will provide access to buyers of goods and services and procurement and financing opportunities within the public and private sectors. The MBOC program's primary objective is to match pre-qualified MBEs with private and public sector contracting and financing entities. In addition, the MBOC will assist clients by identifying, matching and fostering strategic partners and joint ventures with firms outside the designated area in order to build client capacity.

The MBOC operator and executive director should have experience in and knowledge of the local minority business sector and demonstrated ability to gain access to key decision makers. The MBOC is supported by a volunteer advisory committee that assists the MBOC in implementing program requirements and providing contract and financing opportunities to MBEs. The program is primarily evaluated by MBDA based on the number and dollar value of contracts and financial transactions awarded to MBEs. The MBOC will be required to engage in the activities delineated in the FFO Announcement.

Match Requirements

Cost sharing of at least 15% for year 1 and 30% for year 2 is required. Cost sharing is the portion of the project cost not borne by the Federal Government. Applicants must meet this requirement in (1) Cash contributions; (2) non-cash applicant contributions; and/or (3) third party in-kind contributions. Bonus points will be awarded for cost sharing exceeding 30 percent that is applied to the MBOC for year 1 and 2 only. Applicants must provide a detailed explanation of how the cost-sharing requirement will be met. While not a program requirement, the MBOC may charge client fees for brokering services rendered. Client fees may be used towards meeting cost share requirements. Client fees applied directly to the award's cost sharing requirement must be used in furtherance of the program objectives.

Selection Procedures

Prior to the formal paneling process, each application will receive an initial screening to ensure that all required forms, signatures and documentation are present. Each application will receive an independent, objective review by a panel qualified to evaluate the applications submitted. MBDA anticipates that the review panel will be made up of at least three independent reviewers (all Federal employees) who will evaluate all applications based on the below evaluation criteria. Each reviewer will provide a score for each proposal. The National Director of MBDA makes the final recommendation to the Department of Commerce Grants Officer regarding the funding of applications, taking into account the following:

1. Evaluations and rankings of the independent review panel;

2. Size of proposed service area. Applicants are encouraged to propose as large a service area as possible, which may extend beyond the defined service area of the state of Louisiana;

3. Proposal for a secondary or satellite office(s) accessible to residents of Baton Rouge, Louisiana;

4. The following funding priorities: a. Having an existing or recent client base that can be utilized for brokering contract and financial transactions;

b. Having the ability to establish an MBOC that has an Industry specific(s) focus and that demonstrates the utility of economic clusters including, but not limited to, aerospace, manufacturing, construction, financial services, IT and/or automotive industries;

c. Having the ability to assist in economic recovery following natural disasters through available economic opportunities;

d. Having the ability to facilitate joint ventures and strategic partners between clients and firms outside of the designated service area; and

5. Availability of funding.

Evaluation Criteria

Proposals will be evaluated and applicants will be selected based on the following criteria. An application must receive at least 70% of the total points available for each evaluation criterion, in order for the application to be considered for funding. The maximum total points that can be earned is 105 including the bonus points for related non-federal cost sharing as described below.

1. Applicant Capability (30 points)

The applicant's proposal will be evaluated with respect to the applicant's experience and expertise in providing the work requirements listed. Specifically, the proposals will be evaluated as follows:

• MBE Community—Experience and knowledge of the local minority business sector and established working relationships with buying organizations. This factor will be evaluated on whether or not the applicant has an established presence in the proposed geographic service area. Established presence is defined to mean that the applicant has had an office in the geographic service area for a minimum of three (3) years preceding this announcement and has established relationships with buying organizations. In light of Hurricanes Katrina and Rita, the definition for established presence is amended to include entities in operation since the beginning of 2003 (minimum) through August 2005.(10 points);

• Business Acumen—experience in and knowledge of coaching and mentoring techniques related to serving rapid growth-potential minority firms (3 points);

• Financing—experience in and knowledge of brokering techniques and facilitating large financial transactions (5 points);

• Procurements and Contracting—experience in and knowledge of the public and private sector contracting opportunities and gaining access to the buyers to facilitate and broker large deals (5 points);

• Financing Networks—Knowledge of the resources and professional relationships within the corporate, banking and investment community that can be beneficial to minority-owned firms (2 points);

• Experience and knowledge of particular industries and ability to gain access to industry leaders within the geographic service area (5 points).

2. Resources (25 points)

The applicant's proposal will be evaluated according to the following criteria:

• Key Staff—Discuss the experience of the staff that will operate the MBOC. In particular, an assessment will be made to determine whether key staff has the experience in working with high level key decision makers as relates to brokering and facilitating large dollar contracts and financial transactions, and coaching and mentoring. Proposed staff will be assessed to determine if they possess the expertise in utilizing information systems (10 points);

• Resources—discuss what resources will be utilized to accomplish the work requirements (not included as part of the cost-sharing arrangement). An assessment will be made to evaluate how well the plan establishes and maintains a network of resources. Discuss how the Advisory Committee and subcommittees will be recruited and what their role will be. Discuss how the committees will contribute to the performance measures as outlined in the FFO (10 points);

• Equipment—An assessment will be conducted to evaluate how well the plan fulfills the computer hardware and software requirements stated in the FFO (5 points).

3. Techniques and Methodologies (25 points)

The applicant's proposal will be evaluated as follows:

• Performance Measures—relate each performance measure to the financial, information and market resources available in the applicant's defined service area and how the goals will be met. Specific attention should be placed on the Dollar Value of Contract Awards and Financial Transactions (as described under Definitions in the FFO). Minimum goals should be based on the availability of Federal procurement dollars in the service area. The applicant should also consider existing market conditions and its strategy to achieve the goal. (10 points);

• Plan of Action—provide specific detail on how the applicant will start operations, including how the Advisory Committees and Subcommittees will be formed. The plan should include a detailed discussion of the nature of the advisory role and how the committee will work with Center staff to accomplish program objectives. Program Operators have thirty (30) days to become fully operational after an award is made. Fully operational means that the primary office must be opened in the city of New Orleans and (if applicable) secondary or satellite offices are opened, all staff is hired, all signs are up, all items of furniture and equipment are in place and operational, all stationery forms are developed and the Center is ready to open its doors to the public. Failure to have all staff on board within 30 days after award will result in a deduction of 10 points on the first semi-annual performance assessment report and may jeopardize continuation of the award. (5 points);

• Work Requirements Execution Plan—The applicant will be evaluated on how it plans to execute the Work Requirements (including implementation timelines) and how effectively and efficiently all staff will be used. Applicants should include a description for using an intra and interstate approach, depending on the geographic service area, for accomplishing the work requirements contained in the FFO (5 points).

• Appropriateness of Applicant Defined Service Area—The applicant will be evaluated based on the following: the size of the minority population and density of MBEs with revenues of $500,000 or rapid-growth potential in the applicant's defined service area or displaced Louisiana MBEs due to Hurricanes Katrina and Rita. The presence of significant federal and commercial contracting and financing opportunities, the size of the market, and the need for MBDA resources in the applicant's defined service area should also be discussed. (5 Points)

4. Proposed Budget and Supporting Budget Narrative (20 points)

The applicant must provide two separate budget narratives, one for each program year, reflecting the respective non-federal cost share requirements. The applicant's proposal will be evaluated on the following sub-criteria:

• Reasonableness, allowability and allocability of costs (5 points). MBDA anticipates that 75% of the funding level will be allocated to key staff, such as the Executive Director and senior business development persons.

• Proposed cost sharing of 15 percent is required for year 1 and 30 percent is required year 2 and must be documented, including whether client fees for brokering will be charged and applied to the cost share. Applicants choosing to charge fees should set forth a fee schedule in their proposals (5 points).

• Performance-based Budget. Discuss how the budget is related to the accomplishment of the work requirements and the Performance measures. Provide a budget narrative that clearly shows the connections. (10 points)

• Non-Federal Cost sharing exceeding 30 percent for year 1 and 2. (5 bonus points).

Intergovernmental Review

Applications under this program are not subject to Executive Order 12372, “Intergovernmental Review of Federal Programs.”

Limitation of Liability

Applicants are hereby given notice that funds have been appropriated for this program for Fiscal Year 2006; however, funds have not yet been appropriated for FY 2007. In no event will MBDA or the Department of Commerce be responsible for proposal preparation costs if this program fails to receive funding or is cancelled because of other agency priorities. Publication of this announcement does not oblige MBDA or the Department of Commerce to award any specific project or to obligate any available funds.

Universal Identifier

Applicants should be aware that they will be required to provide a Dun and Bradstreet Data Universal Numbering system (DUNS) number during the application process. See the June 27, 2003 (68 FR 38402) Federal Register notice for additional information. Organizations can receive a DUNS number at no cost by calling the dedicated toll-free DUNS Number request line at 1-866-705-5711 or on Grants.gov Web site at http://www.Grants.gov.

Department of Commerce Pre-Award Notification Requirements for Grants and Cooperative Agreements The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of standard forms 424, 424A, 424B, SF-LLL, and CD-346 have been approved by OMB under the respective control numbers 0348-0043, 0348-0044, 0348-0040, 0348-0046, and 0605-0001.

Notwithstanding any other provisions of law, no person is required to respond to, nor shall any person be subject to a penalty for failure to comply with a collection of information subject to the Paperwork Reduction Act unless that collection displays a currently valid OMB control Number.

Executive Order 12866

This notice has been determined to be not significant for purposes of E.O. 12866.

Administrative Procedure Act/ Regulatory Flexibility Act

Prior notice for an opportunity for public comment are not required by the Administrative Procedure Act for rules concerning public property, loans, grant, benefits and contracts (5 U.S.C. 533(a)(2)). Because notice and opportunity for comment are not required pursuant to 5 U.S.C. 533 or any other law, the analytical requirements of the regulatory flexibility Act (5 U.S.C 601 et seq.) are inapplicable. Therefore, a regulatory flexibility analysis is not required and has not been prepared.

Dated: April 7, 2006.
Ronald N. Langston,
National Director, Minority Business Development Agency.

[FR Doc. E6-5429 Filed 4-11-06; 8:45 am]

BILLING CODE 3510-21-P